DEPARTMENT OF HOMELAND SECURITY

Transportation Security Administration

Revision of Agency Information Collection Activity Under OMB Review: Department of Homeland Security Traveler Redress Inquiry Program (DHS TRIP)

AGENCY: Transportation Security Administration, DHS.

ACTION: 30-Day notice.

SUMMARY: This notice announces that the Transportation Security Administration (TSA) has forwarded the Information Collection Request (ICR), Office of Management and Budget (OMB) control number 1652-0044, abstracted below, to OMB for review and approval of a revision of the currently approved collection under the Paperwork Reduction Act (PRA). The ICR describes the nature of the information collection and its expected burden. The collection involves the submission of identifying and travel experience information by individuals requesting redress through the Department of Homeland Security Traveler Redress Inquiry Program (DHS TRIP). The collection also involves two voluntary customer satisfaction surveys to identify areas for program improvement.

DATES: Send your comments by October 29, 2021. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@dhs.gov.

SUPPLEMENTARY INFORMATION: TSA published a Federal Register notice, with a 60-day comment period soliciting comments, of the following collection of information on June 4, 2021, 86 FR 30064.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques.

Information Collection Requirement

Title: DHS TRIP.

Type of Request: Extension of a currently approved collection.

OMB Control Number: 1652-0044.

Forms(s): Traveler Inquiry and Survey Forms.

Affected Public: Traveling Public.

Abstract: DHS TRIP is a single point of contact for individuals who have inquiries or seek resolution regarding difficulties they have experienced during their travel screening. The TSA manages the DHS TRIP office on behalf of DHS. The collection of information includes: (1) A Traveler Inquiry Form (TIF), which includes the individual's identifying and travel experience information; and (2) two optional, anonymous customer satisfaction surveys to allow the public to provide DHS feedback on its experience using DHS TRIP.

TSA is revising the information collection by aligning the TIF question set to match naming standards set forth by the US Department of State (DoS). Making these changes will ensure consistency with how other federal agencies input names and identification data elements into their systems. TSA always queries TECS and the Secure Flight User Interface that use DoS naming standards; this change will enable easier review and assessment of applications. TIF users will continue to provide their full name, date of birth, and other data elements; however, they will now match the naming standards of DoS as shown on their passports or other travel documents. For example, for Name, TSA is changing the question from “First Name, Middle Name, Last Name” to “Given Name and Surname.” For Place of Birth, TSA is changing the “Place of Birth (City or Town)” to “Place of Birth (Country (mandatory) City or Town (optional)).” This will enable easier review and assessment of applications. In addition, TSA is revising the TIF to include additional travel experience scenario options, involving Electronic Visa Update System and Global Entry; and two additional identity documentation options, Electronic System for Travel Authorization application and the Student Exchange Visitor Information System ID number. Finally, TSA has made non-substantial changes to the form, updating TSA's current address. TSA will provide a table of changes for the TIF form.

Number of Respondents: 15,000.

Estimated Annual Burden Hours: An estimated 15,500 hours annually.

Estimated Cost Burden: An estimated $14,490 annually.

Dated: September 23, 2021.
Christina Walsh,
TSA Paperwork Reduction Act Officer, Information Technology.

[FR Doc. 2021-21096 Filed 9-28-21; 8:45 am]

BILLING CODE 9110-05-P